SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 12, 2006.

ADDRESSES: Send all comments regarding whether these information collections are necessary for the proper performance of the function of the agency, whether the burden estimates are accurate, and if there are ways to minimize the estimated burden and enhance the quality of the collections, to Carol Fendler, Director, Office of Licensing and Program Standards, Small Business Administration, 409 3rd Street SW., Suite 8300, Washington, DC 20416.

FOR FURTHER INFORMATION CONTACT: Carol Fendler, Director, Office of Licensing and Program Standards 202-205-7559 carol.fendler@sba.gov Curtis B. Rich, Management Analyst, 202-205-7030 curtis.rich@sba.gov.

Supplementary Information: Title: “Request for Information Concerning Portfolio Financing”.

Description of Respondents: SBIC Investment Companies.

Form No: 857.

Annual Responses: 2,160.

Annual Burden: 2,160.

SUPPLEMENTARY INFORMATION: Title: “Financing Institution Confirmation Form”.

Description of Respondents: SBIC Investment Companies.

Form No: 860.

Annual Responses: 1,500.

Annual Burden: 750.

ADDRESSES: Send all comments regarding whether these information collections are necessary for the proper performance of the function of the agency, whether the burden estimates are accurate, and if there are ways to minimize the estimated burden and enhance the quality of the collections, to Radwan Saade, Economist, Office of Advocacy, Small Business Administration, 409 3rd Street SW., Suite 7800, Washington, DC 20416.

FOR FURTHER INFORMATION CONTACT: Radwan Saade, Economist, Office of Advocacy 202-205-6878 radwan.saade@sba.gov Curtis B. Rich, Management Analyst, 202-205-7030 curtis.rich@sba.gov .

SUPPLEMENTARY INFORMATION: Title: “Costs of Litigation to Small Business; Executive Interview Questionnaire”.

Description of Respondents: Small Businesses.

Form No: N/A.

Annual Responses: 100.

Annual Burden: 50.

SUPPLEMENTARY INFORMATION: Title: Small Business Questionnaire (Use of Telecommunication)”.

Description of Respondents: Small Businesses.

Form No: N/A.

Annual Responses: 750.

Annual Burden: 63.

ADDRESSES: Send all comments regarding whether these information collections are necessary for the proper performance of the function of the agency, whether the burden estimates are accurate, and if there are ways to minimize the estimated burden and enhance the quality of the collections, to Cynthia Pitts, Administrative Officer, Office of Disaster, Small Business Administration, 409 3rd Street SW., Suite 6050, Wash., DC 20416.

FOR FURTHER INFORMATION CONTACT: Cynthia Pitts, Administrative Officer, Office of Disaster 202-205-7570 cynthia.pitts@sba.gov Curtis B. Rich, Management Analyst, 202-205-7030 curtis.rich@sba.gov .

SUPPLEMENTARY INFORMATION: Title: “Disaster Home Loan Application”.

Description of Respondents: Applicants Requesting SBA Disaster Home Loan.

Form No's: 5C, 739.

Annual Responses: 47,962.

Annual Burden: 71,943.

SUPPLEMENTARY INFORMATION: Title: “Disaster Home/Business Loan Inquiry Record.”

Description of Respondents: Disaster Victims.

Form No: 700.

Annual Responses: 42,196.

Annual Burden: 10,549.

SUPPLEMENTARY INFORMATION: Title: “Pre-Disaster Mitigation Small Business Loan Application”.

Description of Respondents: Business Application for the Pre-Disaster mitigation loan program.

Form No: 5M.

Annual Responses: 2,500.

Annual Burden: 5,000.

SUPPLEMENTARY INFORMATION: Title: “Borrowers Progress Certification”.

Description of Respondents: Disaster Loan Borrowers.

Form No: 1366.

Annual Responses: 24,156.

Annual Burden: 12,078.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street, SW., Suite 8300, Wash., DC 20416.

FOR FURTHER INFORMATION CONTACT: Sandra Johnston, Office of Financial Assistance, 202-205-7528 sandra.johnston@sba.gov; Curtis B. Rich, Management Analyst, 202-205-7030 curtis.rich@sba.gov.

SUPPLEMENTARY INFORMATION: Title: “Report to SBA; Provisions of 13 CFR 120.472”.

Description of Respondents: Small Business Lending Companies.

Form No: N/A.

Annual Responses: 14.

Annual Burden: 1,120.

ADDRESSES: Send all comments regarding whether this information collection is necessary for the proper performance of the function of the agency, whether the burden estimates are accurate, and if there are ways to minimize the estimated burden and enhance the quality of the collection, to Linda Roberts, Director, Office of Security Operations, Small Business Administration, 409 3rd Street, SW., Suite 5000, Wash., DC 20416.

FOR FURTHER INFORMATION CONTACT: Linda Roberts, Office of Security Operations, 202-205-6623 linda.roberts@sba.gov; Curtis B. Rich, Management Analyst, 202-205-7030 curtis.rich@sba.gov.

SUPPLEMENTARY INFORMATION: Title: “Statement of Personal History”.

Description of Respondents: Applicants for Assistance or Temporary Employment in Disaster.

Form No: 912.

Annual Responses: 55,000.

Annual Burden: 13,750.

ADDRESSES: Send all comments regarding whether this information collection is necessary for the proper performance of the function of the agency, whether the burden estimates are accurate, and if there are ways to minimize the estimated burden and enhance the quality of the collection, to Rachel Newman Karton, Program Analyst, Office of Small Business Development Centers, Small Business Administration, 409 3rd Street, SW., Suite 6400, Wash., DC 20416.

FOR FURTHER INFORMATION CONTACT: Rachel Newman Karton, Office of Small Business Development Centers, 202-619-1816 rachel.newman@sba.gov; Curtis B. Rich, Management Analyst, 202-205-7030 curtis.rich@sba.gov .

SUPPLEMENTARY INFORMATION: Title: “SBA Counseling Evaluation.”

Description of Respondents: Small Business Clients.

Form No: 1419.

Annual Responses: 15,000.

Annual Burden: 3,000.

ADDRESSES: Send all comments regarding whether this information collection is necessary for the proper performance of the function of the agency, whether the burden estimates are accurate, and if there are ways to minimize the estimated burden and enhance the quality of the collection, to Ann Bradbury, Financial Analyst, Office of Financial Assistance, Small Business Administration, 409 3rd Street, SW., Suite 8300, Wash., DC 20416.

FOR FURTHER INFORMATION CONTACT: Ann Bradbury, Office of Financial Assistance, 202-7507 ann.bradbury@sba.gov; Curtis B. Rich, Management Analyst, 202-205-7030 curtis.rich@sba.gov.

SUPPLEMENTARY INFORMATION: Title: “Entrepreneurial Development Management Information System (EDMIS) Counseling Information Form & Management Training Report”.

Description of Respondents: New established and prospective Small Business Owners using the services and programs by the Business Information Center Program.

Form No's: 641, 888.

Annual Responses: 1.

Annual Burden: 67,500.

Jacqueline White,
Chief, Administrative Information Branch.

[FR Doc. E6-5248 Filed 4-10-06; 8:45 am]

BILLING CODE 8025-01-P